DEPARTMENT OF DEFENSE

48 CFR Parts 202 and 245 and Appendix G to Chapter 2

Defense Federal Acquisition Regulation Supplement; Technical Amendments

AGENCY: Department of Defense (DoD).

ACTION: Final rule.

SUMMARY: DoD is making technical amendments to the Defense Federal Acquisition Regulation Supplement to update organizational titles and activity names and addresses.

EFFECTIVE DATE: April 30, 2003.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Parts 202 and 245

Government procurement.

Michele P. Peterson,
Executive Editor, Defense Acquisition Regulations Council.

Therefore, 48 CFR Parts 202 and 245 and Appendix G to Chapter 2 are amended as follows:

1. The authority citation for 48 CFR Parts 202 and 245 and Appendix G to subchapter I continues to read as follows:

Authority: 41 U.S.C. 421 and 48 CFR Chapter 1.

PART 202—DEFINITIONS OF WORDS AND TERMS

202.101 Definitions.

2. Section 202.101 is amended in the definition of “Senior procurement executive” by removing “Department of the Army—Assistant Secretary of the Army (Research, Development and Acquisition)” and adding in its place “Department of the Army—Assistant Secretary of the Army (Acquisition, Logistics and Technology)”.

PART 245—GOVERNMENT PROPERTY

245.407 [Amended]

3. Section 245.407 is amended in paragraph (a)(i)(A) by removing “(RD&A)” and adding in its place “(AL&T)”.

Appendix G to Chapter 2—Activity Nunbers

4. Appendix G to Chapter 2 is amended in Part 3 by adding entry “N65540” to read as follows:

PART 3—NAVY ACTIVITY ADDRESS NUMBERS

* * * * *

N65540, EHP-S Commanding Officer, Ship Systems Engineering Station, Naval Surface Warfare Center, Carderock Division, Philadelphia Naval Business Center, 5001 South Broad Street, Philadelphia, PA 19112-1403.

* * * * *

5. Appendix G to Chapter 2 is amended by revising Part 5 to read as follows:

PART 5—AIR FORCE ACTIVITY ADDRESS NUMBERS

F01600, 5A 42 CONS/CC, 50 Lemay Plaza South, Building 804, Maxwell AFB, AL 36112-6334

F01620, 6K SSG/PK, 3490 East Moore Drive, Suite 270, MAFB-Gunter Annex, AL 36114

F02601, 5C 355 CONS/CC, 3180 South Craycroft Road, Davis Monthan AFB, AZ 85707-3522

F02604, 5D 56 CONS/CC, 14100 West Eagle Street, Luke AFB, AZ 85309-1217

F03602, 5F 314 CONS/CC, 642 Thomas Avenue, Little Rock AFB, AR 72099-5119

F04605, 5H 452 LG/LGC, 1940 Graeber Street, Building 449, March ARB, CA 92518-1650

F04606, SM SM-ALC/PK, 3237 Peacekeeper Way, Suite 17, McClellan AFB, CA 95652-1060

F04611, QQ AFFTC R7D Contracts (C), Building 2800, 5 South Wolfe Avenue, Edwards AFB, CA 93524-1185

F04626, 5M 60 CONS/LGC, 350 Hangar Avenue, Building 549, Travis AFB, CA 94535-2632

F04666, 5N 9 CONS/CC, 6500 B Street, Suite 101, Beale AFB, CA 95903-1712

F04684, QW 30 CONS/LGC, Building 7015, Section 2C, Suite 2, 806 13th Street, Vandenberg AFB, CA 93437-5266

F04689, RN 750 LSS/LGC, 1080 Lockheed Way, Box 039, Onizuka AFB, CA 94089-1234

F04693, MG 61 CONS (SMC/PKO), 2420 Vela Way, Suite 1467, El Segundo, CA 90245-4683

F04699, Q5 SM-ALC/PK, 3227 Peacekeeper Way, Suite 17, McClellan AFB, CA 95652-1060

F04700, Q2 AFFTC/PKA, 5 South Wolfe Avenue, Building 2800, Edwards AFB, CA 93524-1185

F04701, TB SMC/PK, 2420 Vela Way, Suite 1462, El Segundo, CA 90245-4683

F05603, 5B HQ AFSPC/LGC, 1520 East Willamette Avenue, Room 106, Colorado Springs, CO 80914-4554

F05604, SX 21 CONS/LGC, 700 Suffolk Street, Peterson AFB, CO 80914-1200

F05611, 5Q USAFA/LGC, 8110 Industrial Drive, USAFA, CO 80840

F07603, 5R 436 CONS/LGC, 639 Atlantic Street, Suite 243, Dover AFB, DE 19902-5639

F08602, 5S 6 CONS/CC, 2606 Brown Pelican Avenue, MacDill AFB, FL 33621-5000

F08620, 5T 16 CONS/LGC, PO Box 9190, 350 Tully Street, Hurlburt Field, FL 32544-9190

F08630, RH AFRL/MNK, 101 West Eglin Boulevard, Building 13, Suite 337, Eglin AFB, FL 32542-6810

F08635, RH AAC/PK, 205 West D Avenue, Building 350, Suite 433, Eglin AFB, FL 32542-6864

F08637, 5V 325 CONS/CC, 501 Illinois Avenue, Suite 5, Tyndall AFB, FL 32403-5526

F08650, TJ 45 CONS/LGC, 1201 Edward H. White II Street, MS7200, Patrick AFB, FL 32925-3227

F08651, Q3 AAC/PKO, 205 West D Avenue, Suite 541, Eglin AFB, FL 32542-6862

F09603, RJ, RR WR-ALC/PK, Building 300, 215 Byron Street, Robins AFB, GA 31098-1611

F09604, RU LR Directorate/PK, 750 3rd Street, Building 350, Robins AFB, GA 31098-2122

F09607, 5W 347 CONS/CC, 4380B Alabama Road, Moody AFB, GA 31699-1793

F09609, 5X 94 LG/LGC, 1538 Atlantic Avenue, Suite 141, Dobbins AB, GA 30069-5011

F09634, 5Y HQ AFRC/LGC, 255 Richard Ray Boulevard, Robins AFB, GA 31098-1637

F09650, Q6 WR-ALC/PKO, 235 Byron Street, Robins AFB, GA 31098-1611

F10603, 5Z 366 CONS/CC, 366 Gunfighter Avenue, Suite 498, Mountain Home AFB, ID 83648-5296

F11623, 6C 375 CONS/LGC, 102 East Martin Street, Suite 216, Scott AFB, IL 62225-5015

F11626, 6S HQ AMC/DOY, 402 Scott Drive, Unit 3A1, Scott AFB, IL 62225-5302

F14614, X4 22 CONS/LGC, 53147 Kansas Street, Suite 102, McConnell AFB, KS 67221-3606

F16602, 6G 2 CONS/CC, 841 Fairchild Avenue, Barksdale AFB, LA 71110-2271

F19617, R5 439 CONF/LGC, 250 Airlift Drive, Westover ARB, MA 01022-1536

F19628, RS ESC/PK, 104 Barksdale Street, Hanscom AFB, MA 01731-1806

F19650, SH ESC/PKO, Building 1520, 104 Barksdale Street, Hanscom AFB, MA 01731-1806

F21611, 6N 934 CONF/LGC, 760 Military Highway, Minneapolis-St. Paul ARS, Minneapolis, MN 55450-2100

F22600, RC 81 CONS/CC, 200 Fifth Street, Room 104, Keesler AFB, MS 39534-2102

F22608, 6Q 14 CONS/CC, 555 Seventh Street, Suite 113, Columbus AFB, MS 39701-1006

F23606, 6R 509 CONS/CC, 850 Arnold Avenue, Suite 2, Whiteman AFB, MO 65305-5054

F24604, 6T 341 CONS/LGC, 7015 Goddard Drive, Building 145, Malmstrom AFB, MT 59402-6863

F25600, 6U 55 CONS/CC, 101 Washington Square, Offutt AFB, NE 68113-2107

F26600, S4 99 CONS/CC, 5865 Swabb Boulevard, Nellis AFB, NV 89191-7063

F28609, 6V 305 CONS/LGC, 3563 Lancaster Avenue, McGuire AFB, NJ 08641-1712

F28620, S8 OL-A, 65 CONS, PO Box 837, McGuire AFB, NJ 08641

F29601, RW Det 8, AFRL/PK, 2251 Maxwell Avenue SE, Kirtland AFB, NM 87117-5773

F29605, 6W 27 CONS/CC, 100 North Torch Boulevard, Cannon AFB, NM 88103-5131

F29650, R3 377 CONS/LGC, 2000 Wyoming Boulevard SE, Kirtland AFB, NM 87117-5773

F29651, 6X 49 CONS/CC, 1210 Fortyniner Avenue, Holloman AFB, NM 88330-5010

F30602, RX AFRL/IFK, 26 Electronic Parkway, Rome, NY 13441-4514

F30617, 6Y 914 AW/LGC, 2720 Kirkbridge Drive, Niagara Falls IAP-ARS, NY 14304-5001

F31601, BU 43 CONS/CC, 1443 Reilly Road, Suite C, Pope AFB, NC 28308-2896

F31610, BW 4 CONS/CC, 1695 Wright Brothers Avenue, Seymour Johnson AFB, NC 27531-2459

F32604, BX 5 CONS/CC, 211 Missile Avenue, Minot AFB, ND 58705-5027

F32605, BY 319 CONS/CC, 575 6th Avenue, Grand Forks AFB, ND 58205-6436

F33600, RZ ASC/PKW, 1940 Allbrook Drive, Suite 3, Building 1, Wright Patterson AFB, OH 45433-5309

F33601, Q7 88 ABW/PKO, 1940 Allbrook Drive, Suite 3, Building 1, Wright Patterson AFB, OH 45433-5309

F33615, SG DET 1 AFRL/PK, Building 167, 2310 8th Street, Wright Patterson AFB, OH 45433-7801

F33630, C1 910 LG/LGC, 3876 King Graves Road, Youngstown ARB, OH 44473-5925

F33657, SC ASC/PK, Building 14, Room 107, 1865 Fourth Street, Wright Patterson AFB, OH 45433-7120

F33660, TA AFMETCAL Det 1/MLK, 813 Irving Wick Drive West, Building 2, Heath, OH 43056-6116

F34600, C2 71 FTW/CVC, 246 Brown Parkway, Suite 228, Vance AFB, OK 73705-5037

F34601, SD OC-ALC/PK, 3001 Staff Drive, Suite 2AF75A, Tinker AFB, OK 73145-3020

F34608, TF Engineering Installation Center, 4064 Hilltop Road, Suite 102, Tinker AFB, OK 73145-2713

F34612, C3 97 CONS/CC, 205 South 6th Street, Building 318, Altus AFB, OK 73523-5147

F34650, Q9 OC-ALC/PKO, Building 3, Suite 1, 7858 Fifth Street, Tinker AFB, OK 73145-9106

F36629, C7 911 AW/LGC, 2375 Defense Avenue, Pittsburgh ARS, PA 15108-4495

F36700, C8 913 LG/LGC, 1051 Fairchild Street, Willow Grove ARS, PA 19090-5203

F38601, C9 20 CONS/CC, 305 Blue Jay Street, Shaw AFB, SC 29152-5004

F38604, T3 USCENTAF, 524 Shaw Drive, Shaw AFB, SC 29152-5029

F38610, CR 437 CONS/LGC, 102 Long Street, Charleston AFB, SC 29404-4829

F39601, CT 28 CONS/LGC, 1000 Ellsworth Street, Suite 1200, Ellsworth AFB, SD 57706-4910

F40600, Q4 AED(C)/PK, 100 Kindel Drive, Suite A335, Arnold AFB, TN 37389-1335

F40650, D1 AEDC/PKP, 100 Kindel Drive, Building 100, Suite 1332, Arnold AFB, TN 37389-1332

F41608, SA SA-ALC/PM, 485 Quentin Roosevelt Road, Suite 12, Kelly AFB, TX 78241-6419

F41612, D4 82 CONS/CC, 136 K Avenue, Suite 2, Sheppard AFB, TX 76311-2739

F41614, E2 17 CONS/CC, 210 Scherz Boulevard, Goodfellow AFB, TX 76908-4705

F41622, QY 311 HSW/PKO, 8150 Aeromedical Road, Brooks AFB, TX 78235-5123

F41624, TG 311 HSW/PKRHSC/PK, 8150 Aeromedical Road, Brooks AFB, TX 78235-5123

F41636, ZV 37 CONS/CC, 1655 Selfridge Avenue, Lackland AFB, TX 78236-5253

F41650, YA SA-ALC/PMK, Building 1598, 1288 Growden Road, Kelly AFB, TX 78251-5318

F41652, E5 7 CONS/CC, 381 3rd Street, Dyess AFB, TX 79607-1581

F41685, E6 47 CONS/CC, 171 Alabama Avenue, Laughlin AFB, TX 78840-5102

F41689, SK AETC CONS/CC, 550 D Street, Suite 07, Randolph AFB, TX 78150-4434

F41691, Y0 12 CONS/CC, 395 B Street West, Suite 02, Randolph AFB, TX 78150-4525

F42600, QP Ogden ALC/PK, 6038 Aspen Avenue, Building 1289, Hill AFB, UT 84056-5805

F42610, TE Ogden ALC/LMK, 6038 Aspen Avenue, Building 1289 SE, Hill AFB, UT 84056-5805

F42620, TG Ogden ALC/LFKAC, 6072 Fir Avenue, Building 1233, Hill AFB, UT 84056-5820

F42630, XP Ogden ALC/LIK, 6050 Gum Lane, Building 1215, Hill AFB, UT 84056-5225

F42650, R2 Ogden ALC/PKO, 6038 Aspen Avenue, Building 1289 NE, Hill AFB, UT 84056-5805

F44600, F3 1 CONS/CC, 74 Nealy Avenue, Suite 100, Langley AFB, VA 23665-2088

F44650, Q1 ACC CONS, 130 Douglas Street, Suite 210, Langley AFB, VA 23665-2791

F45603, F5 62 CONS/LGC, 100 Main Street, Suite 1049, McChord AFB, WA 98438-1109

F45613, F8 92 CONS/LGC, 110 West Ent Street, Suite 200, Fairchild AFB, WA 99011-9403

F47606, G7 440 AW/LGC, 300 East College Avenue, General Mitchell ARS, WI 53207-6299

F48608, G9 90 CONS/LGC, 7505 Marne Loop, F.E. Warren AFB, WY 82005-2860

F49620, SE AFOSR/PK, 4015 Wilson Boulevard, Room 713, Arlington, VA 22203-1954

F49642, LA 11 CONS/LGC, 500 Duncan Avenue, Room 250, Bolling AFB, DC 20332-0305

F61040, M1 65 CONS/LGC, Lajes Field (Azores), APO AE 9720

F61101, T1 21 CONS/DET 1, PSC 73, APO AE 09716-5000

F61211, N9 31 CONS/LGC, Unit 6102, Box 140, Aviano AB, APO AE 09601-2140

F61214, U9 USAFE Contracting Office, APO AE 9240

F61354, W8 425 ABS/LGC, Unit 6870, Box 85, Izmir AB, APO AE 09821-7085

F61358, W9 39 CONS/LGC, Unit 1045, Box 280, Incirlik AB, APO AE 09824-0285

F61503, UC 435 AW/LGC, Unit 7420, Box 115, Rhein Main AB, APO AE 09097-0115

F61517, UF 52 CONS/LGC, Unit 3910, Building 2001, Spangdahlem AB, APO AE 09126-3910

F61521, UH USAFE CONS/LGC, Unit 3115, Kaiserslautern AB, APO AE 09094-3115

F61708, UK 422 ABS/LGC, Croughton AB, APO AE 09194

F61730, UQ 423 ABS/LGC, PSC 47, Unit 5720, RAF Alconbury, APO AE 09238

F61775, UV 48 CONS/LGC, Unit 5070, Box 270, RAF Feltwell, APO AE 09179

F61815, UW 496 ABS/LGC, Unit 6585, Moron AB, APO AE 09643-6585

F62032, 4D USMTM, Unit 61300, Box 2, Saudi Arabia, APO AE 09803-1300

F62321, RA 18 CONS/LGC, Unit 5199, Kadena AB, APO AP 96368-5199

F62509, QZ 35 CONS, Unit 5201, Misawa AB, APO AP 96319-5201

F62562, SW 374 CONS/LGC, Unit 5228, Yokota AB, APO AP 96328-5228

F64133, S9 36 CONS/CC, Unit 14040, Andersen AFB, APO AP 96543-4040

F64605, TN 15 CONS/LGC, 90 G Street, Hickam AFB, HI 96853-5230

F64620, SZ CINCPACAF/LGC, 90 G Street, Hickam AFB, HI 96853-5230

F65501, WF 3 CONS/CC, 10480 22nd Street, Elmendorf AFB, AK 99506-2500

F65503, WH 354 CONS/LGC, 3112 Broadway Avenue, Unit 5b, Eielson AFB, AK 99702-1850

F66501, R7 24 CONS/CC, Unit 0550, Howard AFB, APO AA 34001-5000

FA0021, 5T HQ AFSOC/LGCQ, 100 Bartley Street, Hurlburt Field, FL 32544-5434

FA2543, 5G 460 CONS, 320 North Beaver Creek Street, Buckley AFB, CO 80011-9511

FA2550, 5P 50 CONS, 300 O'Malley Avenue, Suite 49, Schreiver AFB, CO 80912-3049

FA4416, 5J 89 CONS/LGC, 1419 Menoher Drive, Andrews AFB, MD 20762-6500

FA4452, RL AMC CONF/LGCF, 507 Symington Drive, Room W202, Scott AFB, IL 62225-5015

FA5689, N1 426 ABS/LGC, N-4097 Sola, APO AE 09706-6675

FA6648, 5U 482 LSS/LGC, 29050 Coral Sea Boulevard, Box 50, Homestead ARS, FL 33039-1299

FA6675, D5 301 CONF/LGC, 1710 Burke Street, Suite 100, NAS Fort Worth JRB, TX 76127-6200

FA7046, 6B HQ AFOTEC/RMC, 8500 Gibson Boulevard SE, Kirtland AFB, NM 87117-5558

FA8623, 6E ASC/ENVK, Building 8, Room 201, 1801 10th Street, Wright Patterson AFB, OH 45433-7626

FA8655 Development—UK, PSC 802, Box 14, FPO AE 9499

FA8770, 6H MSG/PK, 4375 Chidlaw Road, Room C022, Wright Patterson AFB, OH 45433-5006

[FR Doc. 03-10473 Filed 4-29-03; 8:45 am]

BILLING CODE 5001-08-P